DEPARTMENT OF HEALTH AND HUMAN SERVICES

National Institutes of Health

45 CFR Part 5b

[Docket Number NIH-2011-0001]

Privacy Act, Exempt Record System; Withdrawal

AGENCY: Department of Health and Human Services, National Institutes of Health.

ACTION: Direct final rule; withdrawal.

SUMMARY: The Department of Health and Human Services (HHS) and the National Institutes of Health (NIH) published in the Federal Register of August 28, 2012, a direct final rule to exempt a new system of records from certain provisions of the Privacy Act of 1974 in order to protect the integrity of NIH research misconduct proceedings and to protect the identity of confidential sources in such proceedings. The comment period for this direct final rule closed November 13, 2012. HHS is withdrawing the direct final rule because the agency has received significant adverse comment.

DATES: The direct final rule published at 77 FR 51933, August 28, 2012, is withdrawn effective January 10, 2013.

FOR FURTHER INFORMATION CONTACT: Karen Pla, the NIH Privacy Act Officer, by email at KarenPla@nih.gov or by telephone on 301-402-6201; and/or Jerry Moore, the NIH Regulations Officer, by email at jm40z@nih.gov or by telephone on 301-496-4607.

SUPPLEMENTARY INFORMATION: HHS and NIH published in the Federal Register of August 28, 2012 (77 FR 51933), a direct final rule to exempt a new system of records, 09-25-0223, “NIH Records Related to Research Misconduct Proceedings, HHS/NIH,” from certain provisions of the Privacy Act of 1974 in order to protect the integrity of NIH research misconduct proceedings and to protect the identity of confidential sources in such proceedings. HHS is withdrawing the direct final rule because the agency has received significant adverse comment.

Authority: Therefore, pursuant to 5 U.S.C. 301 and 552a, the direct final rule published on August 28, 2012 (77 FR 51933) is withdrawn.

Dated: January 10, 2013.
Kathleen Sebelius,
Secretary, Department of Health and Human Services.

[FR Doc. 2013-00726 Filed 1-10-13; 4:15 pm]

BILLING CODE 4140-01-P